FEDERAL COMMUNICATIONS COMMISSION

Deletion of Agenda Item From June 18, 2015 Open Meeting

June 18, 2015.

The following item has been deleted from the list of Agenda items scheduled for consideration at the Thursday, June 18, 2015, Open Meeting and previously listed in the Commission's Notice of June 11, 2015. This item has been adopted by the Commission.

Item No. | Bureau | Subject
4 | INCENTIVE AUCTION TASK FORCE | TITLE: Expanding the Economic and Innovation Opportunities of Spectrum Through Incentive Auctions (GN Docket No. 12-268). SUMMARY: The Commission will consider a Second Order on Reconsideration that resolves petitions for reconsideration of the Commission's Order adopting rules to implement the Broadcast Television Spectrum Incentive Auction, providing parties with additional certainty ahead of the auction.

Federal Communications Commission.
Sheryl D. Todd,
Deputy Secretary.

[FR Doc. 2015-15742 Filed 6-25-15; 8:45 am]

BILLING CODE 6712-01-P